DEPARTMENT OF THE INTERIOR

National Park Service

[NPS-WASO-OIA-DTS-37984; PPWODIREI0—PIN00IO15.XI0000]

U.S. Nomination to the World Heritage List: U.S. Civil Rights Movement Sites

AGENCY: National Park Service, Interior.

ACTION: Notice.

SUMMARY: This notice announces the decision to request that the Georgia State University's World Heritage Initiative prepare a draft nomination of U.S. Civil Rights Sites for inclusion on the United Nations Educational, Scientific and Cultural Organization (UNESCO) World Heritage List. The decision is the result of consultation with the Federal Interagency Panel for World Heritage and the review of public comments submitted in response to an earlier notice. This notice complies with applicable World Heritage Program regulations.

ADDRESSES: To request paper copies of documents discussed in this notice, contact April Brooks, Office of International Affairs, National Park Service, 1849 C St. NW, Room 2415, Washington, DC 20240, (202) 354-1808, or send electronic mail (Email) to: april_brooks@nps.gov.

FOR FURTHER INFORMATION CONTACT: Jonathan Putnam, 202-354-1809. Information on the U.S. World Heritage program can be found at: https://www.nps.gov/subjects/internationalcooperation/worldheritage.htm.

SUPPLEMENTARY INFORMATION:

Background

The World Heritage List is an international list of cultural and natural properties nominated by the signatories to the World Heritage Convention (1972). The United States was the prime architect of the Convention, an international treaty for preservation of natural and cultural heritage sites of global significance. The World Heritage Committee, composed of representatives of 21 nations periodically elected as the governing body of the World Heritage Convention, makes the final decisions on which nominations to accept on the World Heritage List. There are 1,199 sites in 168 countries. Currently there are 25 World Heritage Sites in the United States. U.S. participation and the roles of the Department of the Interior (Department) and the National Park Service (NPS) are authorized by Title IV of the Historic Preservation Act Amendments of 1980 and conducted in accordance with 36 CFR part 73—World Heritage Convention. Each State Party to the Convention maintains a Tentative List, periodically updated, of properties that are considered suitable for nomination. Only properties on the Tentative List are eligible to officially prepare nominations that the Department may consider for submission. An entry for U.S. Civil Rights Sites, including three churches in Alabama, has included on the U.S. Tentative List since 2008. Neither inclusion in the list nor inscription as a World Heritage Site imposes legal restrictions on owners or neighbors of sites, nor does it give the United Nations any management authority or ownership rights in U.S. World Heritage Sites, which continue to be subject only to U.S. law.

The Assistant Secretary for Fish and Wildlife and Parks (Assistant Secretary) initiates the process to nominate U.S. sites to the World Heritage List by publishing a notice in the Federal Register seeking public comment on which properties on the U.S. Tentative List should be nominated next by the United States. The first notice (88 FR 37270, as required by 36 CFR 73.7(c) was published on June 7, 2023. Following the publication of the first notice, the Assistant Secretary consults the Federal Interagency Panel for World Heritage to review the public comments submitted and make a recommendation. If the Panel recommends that a property, or properties, be nominated and the recommendation is accepted by the Assistant Secretary, a second notice is issued. The Assistant Secretary authorized a draft nomination for the Okefenokee National Wildlife Refuge in 2023 and the U.S. Civil Rights Sites is the second nomination authorized (authorization was delayed pending completion of an assessment of the proposed nomination by the International Council on Monuments and Sites, see below). This is the second notice as required by 36 CFR 73.7(f) on the proposed nomination. The Panel assists the Department in implementing the Convention by making recommendations on U.S. World Heritage policy, procedures, and nominations. The Panel is chaired by the Assistant Secretary.

Decision To Request the Preparation of a New U.S. World Heritage Nomination

The Department received over 10,300 comments in response to the first notice, many of them regarding both the Okefenokee National Wildlife Refuge and the U.S. Civil Rights Sites, all of which were expressions of support from the property owners, elected representatives at local, state, and Federal levels, individuals, institutions, and museums. There were no comments against nominating any property, including this nomination.

The Department considered all comments received as well as the advice of the Federal Interagency Panel for World Heritage.

The Department has selected the U.S. Civil Rights Sites as a proposed U.S. serial nomination to the World Heritage List. With the assistance of the Department, including the completion of appropriate consultation with Native American Tribal governments, the Georgia State University World Heritage Initiative, along with supporting organizations and property owners, is encouraged to develop a complete nomination, in accordance with 36 CFR part 73 and the nomination format required by the World Heritage Committee.

The U.S. Civil Rights Sites nomination includes the three churches in Alabama that were included in the Tentative List in 2008: Dexter Avenue King Memorial Baptist Church, Montgomery, Alabama; Bethel Baptist Church, Birmingham, Alabama; and, 16th Street Baptist Church, Birmingham, Alabama. Additional properties also authorized to be part of the nomination include: Robert Russa Moton High School/Museum, Farmville, Virginia; Monroe Elementary School, Topeka, Kansas (part of Brown v. Board of Education National Historical Park); Little Rock Central High School, Little Rock, Arkansas (Little Rock Central High School National Historic Site); Ebenezer Baptist Church (Heritage Sanctuary), Atlanta, Georgia (part of the Martin Luther King, Jr. National Historical Park); Greyhound Bus Terminal, Anniston, Alabama (part of Freedom Riders National Monument); Medgar and Myrlie Evers Home, Jackson, Mississippi (Medgar and Myrlie Evers Home National Monument); Lincoln Memorial and Grounds, Washington, District of Columbia (part of the National Mall and Memorial Parks); Edmund Pettus Bridge, Selma, Alabama, (part of Selma to Montgomery National Historical Trail).

The U.S. Civil Rights Sites proposal was evaluated on a preliminary basis by the International Council on Monuments and Sites (ICOMOS) in 2023 which provided an assessment report. The assessment was based on a visit by international experts to most of the proposed properties and desk reviews by experts of materials developed by Georgia State University. When the Federal Interagency Panel met to consider the proposal it recommended authorization of a draft nomination with the stipulation that the ICOMOS recommendations on the selection of properties and other matters be sufficiently addressed as the nomination is developed. Only eight of the ten additional properties are currently eligible for nomination. Two additional properties in the Georgia State proposal are not included in the authorization at this time. The Lorraine Motel in Memphis, Tennessee and the Woolworth's store in Greensboro, North Carolina are not currently National Historic Landmarks, but could be added to the nomination if they obtain the necessary designation of national significance. In the course of developing the nomination, a small number of additional properties could be added to respond to the ICOMOS recommendations.

The U.S. Civil Rights Sites are the locations of iconic events in the mid-20th century civil rights movement for African Americans in the United States of America. This movement both drew from and had a profound influence on human rights movements elsewhere in the world, particularly insofar as they embody techniques of non-violent social change hitherto most powerfully expressed by Mahatma Gandhi. The current components in the draft nomination collectively played a preeminent role in the movement and will be nominated under criterion vi for association with events and ideas of outstanding universal value. Additional components will be considered for inclusion in keeping with the recommendations of ICOMOS.

Next Steps

A draft World Heritage nomination for U.S. Civil Rights Sites may now be prepared, in consultation with the National Park Service's Office of International Affairs. The NPS will coordinate the review and evaluation of the draft nomination to ensure it meets the requirements of 36 CFR part 73 and will cooperate with the Georgia State University World Heritage Initiative, the property owners, and other partners. Following NPS review of a complete draft nomination, the Department may submit it to the World Heritage Centre for technical review by September 30 of any year. The Centre will then provide comments by November 15 of that year. The Federal Interagency Panel for World Heritage will review a draft nomination following receipt of the Centre's comments and recommend to the Department whether the nomination should be formally submitted for consideration by the World Heritage Committee. Submittal to the World Heritage Centre by the Department through the Department of State can be made by February 1 of any year (prior to 2026, at which time a new procedure of the World Heritage Committee will take effect); the World Heritage Committee would then consider the nomination at its annual meeting in the summer of the following year, after an evaluation by ICOMOS, which is an official Advisory Body to the Committee.

Authority: 54 U.S.C. 307101; 36 CFR part 73.

Shannon A. Estenoz,
Assistant Secretary for Fish and Wildlife and Parks.

[FR Doc. 2024-15806 Filed 7-17-24; 8:45 am]

BILLING CODE 4312-52-P